ENVIRONMENTAL PROTECTION AGENCY

[OPPT-2004-0119; FRL-7686-8]

Targeted Grants to Reduce Childhood Lead Poisoning; Notice of Funds Availability

AGENCY: Environmental Protection Agency (EPA).

ACTION: Notice.

SUMMARY: EPA is soliciting grant proposals from eligible entities to conduct activities to reduce incidences of childhood lead poisoning in vulnerable populations, including projects to: (1) Address areas with high incidences of elevated blood-lead levels; (2) identify and address areas with high potential for heretofore undocumented elevated blood-lead levels; (3) develop tools to address unique and challenging issues in lead poisoning prevention; and (4) identify tools that are replicable and scalable for other areas. Activities eligible for funding include outreach and public education, data gathering, monitoring, training, inspections and assessments, demonstrations, and new, innovative approaches for identifying or reducing lead poisoning. EPA is awarding grants which will provide a total of approximately $750,000. The Agency anticipates awarding individual grants of $25,000 to $100,000. This grant program is open to a wide range of applicants, including state governments, local governments, federally recognized Indian Tribes and tribal consortia, territories, nonprofit organizations, private and state-controlled institutions of higher learning, and nonprofit organizations including community action agencies and other organizations having 501(c)(3) status.

DATES: Proposals must be postmarked, faxed, or e-mailed to EPA on or before January 31, 2005.

ADDRESSES: Proposals may be submitted by mail, fax, or electronically. Please follow the detailed instructions provided in Unit IV. of the SUPPLEMENTARY INFORMATION.

FOR FURTHER INFORMATION CONTACT: For specific information regarding your geographic area or application, contact the appropriate EPA Regional Lead Contact listed in Unit VII. of the Supplementary Information.

SUPPLEMENTARY INFORMATION: The following listing provides certain key information concerning this funding opportunity.

• Federal agency name: Environmental Protection Agency (EPA).

• Funding opportunity title: Targeted Grants to Reduce Childhood Lead Poisoning.

• Funding opportunity number: FON-T001.

• Announcement type: The initial announcement of a funding opportunity.

• Catalog of Federal Domestic Assistance (CFDA) number: 66-716.

• Dates: Proposals must be postmarked, faxed, or e-mailed on or before January 31, 2005. Projects are expected to be completed within 2 years of award of the grant.

I. Funding Opportunity Description

A. Authority

Section 10 of the Toxic Substances Control Act (TSCA), as supplemented by Public Law 106-74, authorizes EPA to award grants for the purpose of conducting research, development, monitoring, education, training, demonstrations, and studies necessary to carry out the purposes of TSCA.

B. Program Description

1. Purpose and scope. EPA is soliciting grant proposals from eligible entities to conduct activities to reduce incidences of childhood lead poisoning in vulnerable populations, including projects to: (1) Address areas with high incidences of elevated blood-lead levels; (2) identify and address areas with high potential for heretofore undocumented elevated blood-lead levels; (3) develop tools to address unique and challenging issues in lead poisoning prevention; and (4) identify tools that are replicable and scalable for other areas. Activities eligible for funding include outreach and public education, data gathering, monitoring, training, inspections and assessments, demonstrations, and new, innovative approaches for identifying or reducing lead poisoning.

EPA is awarding grants which will provide a total of approximately $750,000. The Agency anticipates awarding individual grants of $25,000 to $100,000.

This grant program is open to a wide range of applicants, including state governments, local governments, federally recognized Indian Tribes and tribal consortia, territories, nonprofit organizations, private and state-controlled institutions of higher learning, and nonprofit organizations including community action agencies and other organizations having 501(c)(3) status. This list is not intended to be exhaustive, but rather provides a guide for readers regarding entities likely to be eligible for these grants. Other types of entities not listed in this unit could also be eligible.

2. Activities to be funded. EPA will provide financial assistance in the form of grants to conduct any or all of the following activities:

i. Outreach (educational) activities, including but not limited to development and conduct of organized outreach efforts to educate families about the dangers to children from exposure to lead-based paint hazards, distribution of educational information, and encouragement of families to have their children screened for lead poisoning and have their homes tested for lead hazards. Activities may include, but are not limited to, training medical professionals, developing culturally specific lead outreach materials, distributing pamphlets, establishing an in-home education program to visit the homes of young children, and promoting lead-safe work practices.

Grantees may develop their own outreach materials; however, the use and reproduction of pre-existing products is strongly encouraged and preferred. EPA and other Federal agencies have developed, and currently provide, a wide range of outreach materials available from the National Lead Information Center (1-800-424-LEAD). Any new lead awareness materials developed must be consistent with the Federal (EPA, Department of Housing and Urban Development (HUD), and Centers for Disease Control and Prevention (CDC, formerly the Centers for Disease Control)) lead hazard awareness and poisoning prevention programs (http://www.epa.gov/lead/, http://www.hud.gov/offices/lead/, and http://www.cdc.gov/nceh/lead/lead.htm/) and receive approval from the appropriate EPA Regional Lead Contact listed in Unit VII.

ii. Data gathering, including but not limited to assessments such as blood-lead screening and other activities described below, particularly for areas without well-documented rates of lead poisoning. This includes conducting blood-lead screening of children age 6 years and under, preferably of children between the ages of 12-36 months (blood-lead levels tend to be highest in this age group). (The CDC's recommended level of concern that encourages follow-up activities is 10 μg/dL, with specific actions/interventions recommended at various elevated blood-lead levels.)

All blood-lead samples collected must be analyzed using a Clinical Laboratory Improvement Amendments (CLIA)-certified laboratory. Portable, hand-held blood-lead analyzers may be used, but must be operated by a laboratory that is CLIA-certified for moderately complex analysis. CLIA regulations, published in 1992 (42 CFR part 493), are administered by the Centers for Medicare and Medicaid Services (CMS, formerly the Health Care Finance Administration). CLIA-certified laboratories must successfully participate in a testing proficiency program that is CLIA approved. Information regarding CLIA may be downloaded from the CMS web site at http://www.cms.gov/clia/.

EPA also encourages the development of new assessment methods which may be used in lieu of blood-lead monitoring. In particular, EPA encourages applicants to consider developing new tools to better target populations at risk and to gauge the success of activities funded under this program and other activities designed to combat childhood lead poisoning.

iii. Inspections and risk assessments of pre-1978 housing and/or child-occupied facilities for lead-based paint hazards. This includes collection and analysis of paint, dust, and soil samples for hazardous lead levels. Inspections and risk assessments may only be conducted by individuals appropriately certified. Inspections and risk assessments must be conducted according to the work practice standards found in 40 CFR 745.227 or those of the authorized state or tribal program. Analysis of paint, dust, and soil samples must be conducted by a National Lead Laboratory Accreditation Program (NLLAP)-recognized laboratory. A current list of NLLAP-recognized laboratories can be obtained by calling the National Lead Information Center at 1-800-424-LEAD.

iv. Training. This includes training of individuals and of parents and community members. Worker training includes training to perform abatements, lead inspections, and risk assessments, including initial, refresher, or any other training required to obtain certification to perform lead-based paint inspections and risk assessments. Grant funds cannot be used to pay for any administrative or testing fees for certification to conduct lead inspections and/or risk assessments. Training would also include training of other contractors in lead-safe work practices. Funds can also be used for training of parents and other community members to do outreach and other efforts which do not require certification.

v. Partnership development, including partnerships with public and private entities which have expertise or experience in training, public health, housing, education, nutrition, public education or public relations, and other fields, as part of the performance of eligible activities and which will improve our ability to eliminate childhood lead poisoning.

vi. Quality assurance activities related to the above. All environmental or health-related measurements or data generation must adequately address the requirements of 40 CFR 30.54 and 31.45 relating to quality assurance/quality control. Information on EPA quality assurance requirements may be downloaded from the EPA Quality System web site at http://www.epa.gov/quality/. To begin the process of developing the quality assurance documentation, a quality assurance project plan template has been developed that may be helpful to use as a guide. The template may be downloaded from the EPA/OPPT web site at http://www.epa.gov/lead/new.htm/. No testing or analytical work may be performed without an approved quality assurance project plan. For further guidance on preparation of the quality documentation and specific EPA Regional Office approval requirements, please contact the appropriate EPA Regional Lead Contact listed in Unit VII.

vii. Innovative approaches which have a high likelihood of successfully identifying or reducing lead poisoning.

viii. Travel and related expenses consistent with the objectives of this grant.

2. Goal and objectives. EPA seeks to award grants to entities best able to undertake eligible activities (outreach and public education, data gathering, monitoring, training, inspections and assessments, demonstrations, and new, innovative approaches for identifying or reducing lead poisoning) that accomplish one or more of the following goals:

i. To reduce the incidence of childhood lead poisoning in areas of vulnerable populations.

ii. To address areas with a high incidence of elevated blood-lead levels in children, and also to identify and address areas with high potential for elevated blood-lead levels in children.

iii. To develop tools to address unique and challenging issues in lead poisoning prevention, including but not limited to special situations affecting inner cities, Tribes, Federal facilities, etc.

iv. To identify tools that are replicable and scalable for other areas combating lead poisoning.

EPA encourages applications addressing areas and/or populations with high documented levels of lead poisoning, as well as proposals to identify and address areas where there is great potential for elevated blood-lead levels to exist, although screening and other data are lacking. In the second case, applicants should submit rationale and evidence to describe why a particular area would be advantageous for EPA to invest in. In addition, the Agency encourages applications that focus on populations at particular risk such as those that live in inner cities, immigrant populations, those that live on Federal facilities, Indian Tribes, etc.

EPA is interested in encouraging innovation, and recognizes that smaller organizations may be uniquely situated to benefit populations that are otherwise hard to reach. Therefore, the award process is open to a wide range of applicants, including states, local governments, Indian Tribes and tribal consortia, territories, nonprofits, universities, and others.

II. Award Information

A total of $750,000 is available under this program at this time. Applicants may receive grants of up to $100,000. EPA's intention is to award 8 to 25 grants, including both smaller and larger grants, assuming applications of sufficient quality are received. Final distribution of the funds will be dependent upon the number of qualified applicants, populations served by each grant, and other factors as deemed appropriate by EPA, along with the evaluation criteria as stated in Unit V.

Applicants may use a portion of the grant funds for contractor support for these activities; however, contractor support may not account for more than 25% of the amount of the grant, except where contract services include blood-lead analysis, training, and/or lead-based paint inspections and risk assessments.

III. Eligibility Information

1. Threshold eligibility factors. There are no threshold eligibility factors under this grant program.

2. Eligibility criteria. Eligible recipients are those which have the ability to directly address childhood lead poisoning in a given population or area. This includes a wide range of potential applicants, such as state governments, local governments, federally recognized Indian Tribes and tribal consortia, territories, private and state-controlled institutions of higher learning, and nonprofit organizations including community action agencies and other organizations having 501(c)(3) status. This list is not intended to be exhaustive, but rather provides a guide for readers regarding entities likely to be affected by this action. Other types of entities not listed in this unit could also be eligible.

3. Cost sharing or matching. There are no requirements for cost sharing or matching funding under this grant program.

IV. Application and Submission Information

1. Address to request application package. To obtain an application package, or for further information on individual applications, contact the appropriate EPA Regional Lead Contact listed in Unit VII.

2. Content and form of application submission. To apply for a grant under this program, submit one original and one copy of the grant proposal, including a return mailing address, through the mail or electronically to the appropriate EPA Regional Lead Contact listed in Unit VII. The initial proposal must consist of no more than five pages (excluding attachments), with page numbers. One page is one side of a single-spaced typed letter-size page. Fonts must be 10 or 12 characters per inch (cpi) and must have margins that are at least 1 inch. If a package consists of more than five pages, the package will be considered but the additional pages will not be reviewed.

If sent through the mail, grant proposals must be unbound, stapled, or clipped in the upper lefthand corner, on white paper.

The format for the submission must address all of the elements contained in Unit V., and must be organized and outlined as follows:

i. Project title, name of applicant, project contact, target geographic location and/or population affected by the project, funding requested, a statement as to whether this project addresses (a) an area of high incidence of elevated blood-lead or (b) an area of suspected but undocumented elevated blood-lead levels, and a one-paragraph overview of your proposal describing how this project will identify and/or reduce elevated blood-lead levels.

ii. Project narrative including:

• Problem statement.

• Specific goals and objectives (describe in measurable terms the environmental or human health issue to be addressed).

• Project approach and tasks (steps you will take to reach the goals, along with a timeline or schedule).

• Expected outcomes and results (what you hope to accomplish and how you will measure and evaluate this).

• List of deliverables.

iii. Narrative addressing each evaluation criterion separately and in the order shown in Unit V., in which you must describe how this project will meet each criterion.

iv. Brief description of staffing, partners, and funding resources which would be available to implement the proposed project, including number of workers and staff qualifications (no resumes are required).

v. Brief description of the applicant's organization, experience relating to lead poisoning prevention and to the target community, and the organization's infrastructure as it relates to its ability to implement the proposed project.

vi. Attachments must include letters of specific commitment, if any, from partners, and draft Budget Forms 424-A and 424-B (these forms must be finalized if your project is selected for funding).

3. Submission dates and times. All grant proposals must be postmarked, e-mailed, or faxed on or before January 31, 2005.

4. Intergovernmental Review. Applicants should be aware that formal requests for assistance (i.e., SF424 and associated documentation) may be subject to intergovernmental review under Executive Order 12372, “Intergovernmental Review of Federal Programs.” Applicants should contact their state's single point of contact (SPOC) for further information. There is a list of these contacts at the following web site: http://whitehouse.gov/omb/grants/spoc.html.

5. Funding restrictions. Grant funding may not be used for the following:

i. Buying real property, such as land or buildings.

ii. Lead hazard reduction activities, such as performing interim controls or abatement (as defined in 40 CFR 745.223). However, if your proposal requests grant funding to pay for training activities, EPA is interested in knowing how you plan to ensure those trained will be put to work and how you will track the success of such a program.

iii. Construction activities, such as renovation, remodeling, or building a structure.

iv. Lead-based paint certification fees for individuals and firms.

v. Contractor support in excess of 25% of the amount of the grant award, except where contract services include blood-lead analysis, training, and/or lead-based paint inspections and risk assessments. This limit does not apply to developing quality assurance documentation. However, while grantees may develop their own quality assurance materials, pre-existing templates for inspection and screening are available and EPA strongly encourages their use.

vi. Duplication of funding for any lead-related activities that are being funded or have been previously funded by other EPA or other Federal Government sources.

vii. Case-management costs, including medical treatment for children with elevated blood-lead levels (e.g., followup visits by a doctor or chelation therapy). EPA is extremely interested in knowing what actions you plan to follow regarding monitoring, education, and/or treatment for children whose blood-lead levels are determined under this grant program to be elevated (greater than 10 μg/dL). It is important that the children who are found to have elevated blood-lead levels are treated. Although most case-management costs are not eligible for funding under the grant, a description of specific steps and related information for followup activities must be included in the work plan section of the grant proposal.

6. Other submission requirements. If the applicant has conducted, or is currently working on a related project(s), a brief description of those projects, funding sources, primary commitments, and an indication as to whether those commitments were met must be included in the grant proposal. The description must also indicate how the proposed project is different from other funded work conducted by the applicant(s) or unfunded work conducted by another entity, and how the proposed project will not duplicate previous or on-going projects. However, EPA is interested in knowing the extent to which these grants build upon or support previous or other on-going projects, particularly those funded by EPA or other Federal agency grant programs.

Grant proposals should be clearly marked to indicate any information that is to be considered confidential. EPA will make final confidentiality decisions in accordance with Agency regulations in 40 CFR part 2, subparts A and B.

V. Application Review Information

1. Criteria. EPA will review all proposals for quality, strength, and completeness. The Agency will use the proposals to select projects to be funded under this grant program. EPA reserves the right to reject all proposals and make no awards. The evaluation criteria are as follows:

Criterion 1: Identifying and/or Addressing Vulnerable Populations at Risk for Lead Poisoning (20 points)

For projects which address a community, population, or area with a significantly higher than average incidence rate of childhood lead poisoning, please address the following questions:

• What are the statistics illustrating that the target community, population, or area has significantly higher than average incidence rates of childhood lead poisoning? Please submit relevant blood-lead monitoring data.

• What are the characteristics of the target areas/populations, especially those which indicate that the need is critical? Include demographic information for the target community and other critical indicators including poverty rate, unemployment rate, special community characteristics (e.g., population density, size), or other factors that support the need for this project (e.g., low-income, minority population, concentration of children, or communities disproportionately impacted by environmental factors). Identify sources of information used to illustrate current conditions.

• How will your proposed project lower the incidence and severity of elevated blood-lead levels in children?

For projects that address a community, population, or area with a high likelihood of higher than average incidence rates of childhood lead poisoning, but where data or information is lacking, please address the following questions:

• Why do you believe that this target area has a high likelihood of higher than average incidence of childhood lead poisoning? Please share all information that you have available to understand the conditions in the target area (e.g., housing age and quality, low-income, minority population, concentration of children, or communities disproportionately impacted by environmental factors).

• Why is it important to better identify the remaining vulnerable populations at risk in the target community, population, or area?

• How will your project better identify the extent and location of childhood lead poisoning (and lower the incidence and severity of elevated blood-lead levels, if your project includes this step)?

Criterion 2: Measurable Results (20 Points)

EPA prefers that progress be shown in real environmental progress rather than solely in amount of work accomplished. Please describe the extent to which the proposal measures both quantitative and qualitative results. All project proposals must address the following questions:

• What are the measurable short-term results that will be achieved? Please describe measures that are based on outputs (e.g., number of brochures/surveys distributed), behavior changes (e.g., increase in number of children screened, implementing lead-safe techniques), and/or environmental and human health results (e.g., decrease in elevated blood-lead levels, decrease in dust lead levels, identification of actual elevated blood-lead levels in target area).

• How will you ensure that the data and information collected are useable, accessible to the public, and are shared with appropriate stakeholders?

• How will this project develop and encourage the use of innovative techniques, tools, or measures which can identify vulnerable populations at risk and/or measure improvements in environmental and human health (e.g., surrogates for blood-lead testing)?

Criterion 3: Project Overview & Replicability (20 points)

EPA hopes to fund top quality projects that have a high likelihood for success and replicability across the country. EPA intends to award projects that reflect a broad range of areas and populations (e.g., urban, suburban, rural) and intends to showcase successful projects in order to encourage replicability of successful efforts across the country in areas facing similar challenges. Please include sufficient detail to demonstrate whether the project approach is reasonable and the use of resources is sound. All project proposals must address the following questions:

• What are the project goals, tasks, and deliverables for the project?

• What are the characteristics of the target area/population and are there other areas across the country that could benefit from the proposed approach?

• If successful, how could this project, or methods used, be replicated in other communities? Can this project serve as a model for others to use in addressing problems and achieving results?

• What outputs of this project could serve to reduce development, start-up, and/or research costs for other areas or populations?

Criterion 4: Critical Need & Leveraging Resources (20 points)

Please describe how the proposed project will fill a critical need to reduce the incidence or suspected incidence of childhood lead poisoning in the target community/area. In addition, please describe the extent to which resources from this grant program can or will be leveraged by other resources. All project proposals must answer the following questions:

• What are the critical needs to identify the incidence or reduce the incidence of childhood lead poisoning in the target community/area?

• How will this project fit those needs?

• What resources are currently available for the type of work proposed and why are they insufficient or unlikely to virtually eliminate childhood lead poisoning in this community?

• How will any additional resources (e.g., funding, staff time, in-kind resources) be leveraged for this project?

Criterion 5: Community Involvement and Effective Partnerships (15 points)

EPA believes that appropriate and effective community involvement enhances the prospects for overall project success. Please describe the extent to which the target community (e.g., area, neighborhood, population) will be involved in the project. Does this project include specific opportunities to empower the area/population to address the project goals and objectives? Please describe the extent to which the applicant will be partnering with local stakeholders (e.g., HUD, CDC grantees, other EPA grantees, other Federal agencies, local community groups, and/or health professionals) and the expected results of the partnership. Letters of commitment will be reviewed as part of the evaluation process and should explicitly state partner commitment including roles and responsibilities on project. All project proposals must address the following questions:

• How do your partners represent those in the target community/area who have an interest in or will be affected by the project?

• What methods will be used for community involvement to assure that all affected by the project will have the opportunity to participate?

• What will your partners be responsible for as part of your proposal and what commitments have they made to ensure the project's success (e.g., funding, staff time, in-kind resources)?

Criterion 6: Sustainability & Evaluation (5 points)

Please describe the extent to which project components will be evaluated, how the results will be compared to project goals, and how effectiveness will be monitored and judged. Please also describe the extent to which efforts will be made to continue project work beyond the length of the grant period. All project proposals must answer the following questions:

• How will needed changes to the project be identified and incorporated on an ongoing basis?

• After the project is completed, how will results be measured and evaluated to demonstrate how your project goals were met and identify lessons learned?

• How does the project fit into an overall strategic plan to address lead poisoning?

• After funds from EPA are exhausted, will any part of the work continue? What will be done to increase the likelihood of further work in the proposed target community/area?

2. Review and selection process. Award decisions will be made on the basis of the initial package. Decisions on awarding the grant funds will be made based on the evaluation of the proposals using the criteria specified in Unit IV. Entities that submit qualifying proposals will be notified by EPA of their selection and will be required to submit official grant applications as a part of the award process. Upon notice of award, you will be given 1 month to submit an official grant application as part of the award process prior to receipt of funds. Materials needed for the official grant application, as well as further information on individual applications, may be obtained though the appropriate EPA Regional Lead Contact listed in Unit VII.

All initial grant proposals received under this notice are subject to the dispute resolution process defined at 40 CFR 30.63 and 40 CFR part 31, subpart F.

Should additional funding become available for award, EPA may award additional grants based on this solicitation, in accordance with and at the time of the final selection process, without further notice or competition.

VI. Award Administration Information

1. Award notices. Once proposals have been reviewed and evaluated, the contact person for the applicant (as identified in the proposal) will receive notification from EPA in writing regarding the outcome of the competition. If proposals are selected, additional forms for grant application (such as Standard Form SF-424, Application for Federal Assistance) will be required to be submitted to EPA. The specific information will be provided in the written notification from EPA. In addition, successful applicants will be required to certify that they have not been debarred or suspended from participation in Federal assistance awards in accordance with 40 CFR part 32. The application forms are available on line at http://www.epa.gov/ogd/AppKit/application.htm. These forms should not be submitted with the proposals.

2. Administration and national policy requirements—Quality assurance. EPA's quality assurance requirements must be complied with before any environmental or health-related measurements or data are initiated under this grant. These requirements are addressed in 40 CFR 30.54 and 40 CFR 31.45 relating to quality assurance/quality control. Information on EPA quality assurance requirements may be downloaded from the EPA Quality System web site at http://www.epa.gov/quality/. For further guidance on preparation of the quality documentation, and specific EPA Regional approval requirements, please contact the appropriate EPA Regional Lead Contact listed in Unit VII.

3. Statutory authority and Executive Order reviews. Section 10 of TSCA, as supplemented by Public Law 106-74, authorizes EPA to award grants for the purpose of conducting research, development, monitoring, education, training, demonstrations, and studies necessary to carry out the purposes of the Act. Presently, these funds are not eligible for use in a Performance Partnership Agreement. The CFDA number is 66-716. Applicants should be aware that formal requests for assistance (i.e., SF-424 and associated documentation) may be subject to intergovernmental review under Executive Order 12372, “Intergovernmental Review of Federal Programs.” Applicants should contact their state's single point of contact (SPOC) for further information. There is a list of these contacts at the following web site:http:/whitehouse.gov/omb/grants/spoc.html.

4. Reporting. The grantee must provide EPA with written progress reports within 30 days after the end of each quarter and a report within 90 days after the end of the project period.

VII. Agency Contact

For specific information regarding your geographic area or application, contact the appropriate EPA Regional Lead Contact. Grant proposals must be submitted by mail or e-mail to the appropriate EPA Regional Lead Contact. The EPA Regional Lead Contacts are listed as follows:

Region 1 (Connecticut, Maine, Massachusetts, New Hampshire, Rhode Island, and Vermont): Regional Contact: James M. Bryson, USEPA Region 1 (CPT), One Congress St., Suite 1100, Boston, MA 02114-0203; telephone number: (617) 918-1524; fax number: (617) 918-0524; e-mail address:bryson.jamesm@epa.gov.

Region 2 (New Jersey, New York, Puerto Rico, and the Virgin Islands): Regional Contact: Lou Bevilacqua, USEPA Region 2 (MS 225), 2890 Woodbridge Ave., Edison, NJ 08837; telephone number: (732) 321-6671; fax number: (732) 321-6757; e-mail address:bevilaqua.louis@epa.gov.

Region 3 (Delaware, Maryland, Pennsylvania, Virginia, West Virginia, and the District of Columbia): Regional Contact: Demian Ellis, USEPA Region 3 (3WC33), 1650 Arch St., Philadelphia, PA 19103-2029; telephone number: (215) 814-2088; fax number: (215) 814-3114; e-mail address: ellis.demian@epa.gov.

Region 4 (Alabama, Florida, Georgia, Kentucky, Mississippi, North Carolina, South Carolina, and Tennessee): Regional Contact: Liz Wilde, USEPA Region 4, 61 Forsyth St., SW., Atlanta, GA 30303; telephone number: (404) 562-8998; fax numbers: (404) 562-8973 and (404) 562-8972;e-mail address: wilde.liz@epa.gov.

Region 5 (Illinois, Indiana, Michigan, Minnesota, Ohio, and Wisconsin): Regional Contact: David Turpin, USEPA Region 5 (DT 8J), 77 W. Jackson Blvd., Chicago, IL 60604; telephone number: (312) 886-7836; fax number: (312) 353-4788; e-mail address: turpin.david@epa.gov.

Region 6 (Arkansas, Louisiana, New Mexico, Oklahoma, and Texas): Regional Contact: Eva Steele, USEPA Region 6, 1445 Ross Ave., 12th Floor (6PD T), Dallas, TX 75202; telephone number: (214) 665-7211; fax number: (214) 665-6762; e-mail address: steele.eva@epa.gov.

Region 7 (Iowa, Kansas, Missouri, and Nebraska): Regional Contact: Larry Stafford, USEPA Region 7, ARTD/RALI, 901 North 5th, Kansas City, KS 66101; telephone number: (913) 551-7394; e-mail address:stafford.larry@epa.gov.

Region 8 (Colorado, Montana, North Dakota, South Dakota, Utah, and Wyoming): Regional Contact: Amanda Hasty, USEPA Region 8, 999 18th St., Suite 300, Denver, CO 80202; telephone number: (303) 312-6966; fax number (303) 312-6044; e-mail address:hasty.amanda@epa.gov.

Region 9 (Arizona, California, Hawaii, Nevada, American Samoa, and Guam): Regional Contact: Nancy Oien, USEPA Region 9 (CMD 4), 75 Hawthorne St., San Francisco, CA 94105, telephone number: (415) 972-3780; fax number: (415) 947-3583; e-mail address: oien.nancy@epa.gov.

Region 10 (Alaska, Idaho, Oregon, and Washington): Regional Contact: Barbara Ross, USEPA Region 10, Solid Waste and Toxics Unit (AWT 128), 1200 Sixth Ave., Seattle, WA 98101, telephone number: (206) 553-1985; fax number: (206) 553-8509; e-mail address:ross.barbara@epa.gov.

VIII. Other Information

A. Does this Action Apply to Me?

This action may be of particular interest to those who have the ability to directly address childhood lead poisoning in a given population or area, such as state governments, local governments, federally recognized Indian Tribes and tribal consortia, territories, private and state-controlled institutions of higher learning, and nonprofit organizations including community action agencies and other organizations having a 501(c)(3) status. Since other entities may also be interested, the Agency has not attempted to describe all the specific entities that may be affected by this action. If you have any questions regarding the applicability of this action to a particular entity, consult the appropriate EPA Regional Lead Contact listed in Unit VII.

B. How Can I Access Copies of this Document and Other Related Documents?

1. Docket. EPA has established an official public docket for this action under docket identification (ID) number OPPT 2004-0119. The official public docket is the collection of materials that is available for public viewing at the EPA Docket Center, Rm. B-102 Reading Room, EPA West, 1301 Constitution Ave., NW., Washington, DC. The EPA Docket Center is open from 8:30 a.m. to 4:30 p.m., Monday through Friday, excluding legal holidays. The EPA Docket Center Reading Room telephone number is (202) 566-1744, and the telephone number for the OPPT Docket, which is located in EPA Docket Center, is (202) 566-0280.

2. Electronic access. You may access this Federal Register document electronically through the EPA Internet under the “Federal Register” listings at http://www.epa.gov/fedrgstr/. An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit VIII.B.1. Once in the system, select “search,” then key in the appropriate docket ID number.

IX. Submission to Congress and the Comptroller General

Grant solicitations such as this are considered rules for the purpose of the Congressional Review Act (CRA). The CRA, 5 U.S.C. 801 et seq., as added by the Small Business Regulatory Enforcement Fairness Act of 1996 (SBREFA), generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This is not a “major rule” as defined by 5 U.S.C. 804(2).

List of Subjects

Environmental protection, Grants, Lead, Lead-based paint, Maternal and child health.

Dated: November 24, 2004.
Margaret Schneider,
Acting Assistant Administrator, Office of Prevention, Pesticides and Toxic Substances.

[FR Doc. 04-26474 Filed 11-30-04; 8:45 am]

BILLING CODE 6560-50-S